DEPARTMENT OF VETERANS AFFAIRS

[OMB Control No. 2900-0589]

Proposed Information Collection (Purchase of Shellfish) Activity: Comment Request

AGENCY: Office of Acquisition and Logistics, Department of Veterans Affairs.

ACTION: Notice.

SUMMARY: The Office of Acquisition and Logistics (OA&L), Department of Veterans Affairs (VA), is announcing an opportunity for public comment on the proposed collection of certain information by the agency. Under the Paperwork Reduction Act (PRA) of 1995, Federal agencies are required to publish notice in the Federal Register concerning each proposed collection of information including each proposed extension of a currently approved collection and allow 60 days for public comment in response to the notice. This notice solicits comments on the information needed to ensure that shellfish purchased by VA are from a State- and Federal-approved and inspected source.

DATES: Written comments and recommendations on the proposed collection of information should be received on or before May 17, 2010.

ADDRESSES: Submit written comments on the collection of information through Federal Docket Management System (FDMS) at http://www.Regulations.gov; or to Arita Tillman, Office of Acquisition and Logistics (049A5A), Department of Veterans Affairs, 810 Vermont Avenue, NW., Washington, DC 20420; or e-mail: arita.tillman@va.gov. Please refer to “OMB Control No. 2900-0589” in any correspondence. During the comment period, comments may be viewed online through FDMS.

FOR FURTHER INFORMATION CONTACT: Arita Tillman at (202) 461-6859 or Fax.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OA&L invites comments on: (1) Whether the proposed collection of information is necessary for the proper performance of OA&L's functions, including whether the information will have practical utility; (2) the accuracy of OA&L's estimate of the burden of the proposed collection of information; (3) ways to enhance the quality, utility, and clarity of the information to be collected; and (4) ways to minimize the burden of the collection of information on respondents, including through the use of automated collection techniques or the use of other forms of information technology.

Title: Veterans Affairs Acquisition Regulation (VAAR) Provision 852.270-3, Shellfish.

OMB Control Number: 2900-0589.

Type of Review: Extension of a currently approved collection.

Abstract: VAAR clause 852.270-3, Purchase of Shellfish, requires a firm furnishing shellfish must ensure the item are packaged in approved container and labeled with the packer's State certificate number and State abbreviation. In addition, the firm must ensure the container is tagged or labeled indicating the name and address of the approved producer or shipper, the name of the State of origin, and the certificate number of the approved producer or shipper. The information is used to ensure shellfish purchased by VA are from a State and Federal approved and inspected source.

Affected Public: Business or other for-profit.

Estimated Annual Burden: 17 hours.

Estimated Average Burden per Respondent: 1 minute.

Frequency of Response: On occasion.

Estimated Number of Respondents: 1,000.

Dated: March 10, 2010.
By direction of the Secretary:
Denise McLamb,
Program Analyst, Enterprise Records Service.

[FR Doc. 2010-5848 Filed 3-17-10; 8:45 am]

BILLING CODE 8320-01-P